ENVIRONMENTAL PROTECTION AGENCY

40 CFR Part 52

[EPA-R04-OAR-2005-SC-0003, EPA-R04-OAR-2005-SC-0005-200620a; FRL-8252-8]

Approval and Promulgation of Implementation Plans; South Carolina: Revisions to State Implementation Plan

AGENCY: Environmental Protection Agency (EPA).

ACTION: Proposed rule.

SUMMARY: EPA is proposing to approve several revisions to the South Carolina State Implementation Plan (SIP), submitted by the South Carolina Department of Health and Environmental Control (SC DHEC) on April 13, 2005, and October 24, 2005. Both revisions include modifications to South Carolina's Regulation 61-62.1 “Definitions and General Requirements.” In the April 13, 2005, submission, Regulation 61-62.1 is being amended to be consistent with the new Federal emissions reporting requirements, referred to as the Consolidated Emissions Reporting Rule (CERR), and to streamline the existing emissions inventory requirements. SC DHEC is taking an action that is consistent with the final rule, published on June 10, 2002 (67 FR 39602).

The October 24, 2005 submittal revises the definition of Volatile Organic Compounds (VOC). The revision adds several compounds to the list of compounds excluded from the definition of VOC on the basis that they make a negligible contribution to ozone formation, and similarly removes several compounds from the definition of VOC.

This action is being taken pursuant to section 110 of the Clean Air Act (CAA).

DATES: Written comments must be received on or before January 8, 2007.

ADDRESSES: Comments may be submitted by mail to: Stacy DiFrank, Regulatory Development Section, Air Planning Branch, Air, Pesticides and Toxics Management Division, U.S. Environmental Protection Agency, Region 4, 61 Forsyth Street, SW., Atlanta, Georgia 30303-8960. Comments may also be submitted electronically, or through hand delivery/courier. Please follow the detailed instructions described in the direct final rule, ADDRESSES section which is published in the Rules Section of this Federal Register.

FOR FURTHER INFORMATION CONTACT: Nacosta Ward, Regulatory Development Section, Air Planning Branch, Air, Pesticides and Toxics Management Division, U.S. Environmental Protection Agency, Region Forsyth Street, SW., Atlanta, Georgia 30303-8960. The telephone number is (404) 562-9040. Ms. Ward can also be reached via electronic mail at ward.nacosta@epa.gov.

SUPPLEMENTARY INFORMATION: For additional information, see the direct final rule which is published in the Rules Section of this Federal Register.

Dated: November 21, 2006.
A. Stanley Meiburg,
Acting Regional Administrator, Region 4.

[FR Doc. E6-20768 Filed 12-6-06; 8:45 am]

BILLING CODE 6560-50-P